DEPARTMENT OF VETERANS AFFAIRS

[OMB Control No. 2900-0138]

Agency Information Collection Activity Under OMB Review: Request for Details of Expenses

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden and it includes the actual data collection instrument.

DATES: Comments must be submitted on or before July 5, 2019.

ADDRESSES: Submit written comments on the collection of information through www.Regulations.gov, or to Office of Information and Regulatory Affairs, Office of Management and Budget, Attn: VA Desk Officer; 725 17th St. NW, Washington, DC 20503 or sent through electronic mail to oira_submission@omb.eop.gov. Please refer to “OMB Control No. 2900-0138” in any correspondence.

FOR FURTHER INFORMATION CONTACT: Danny S. Green, (202) 421-1354 or email Danny.Green2@va.gov. Please refer to “OMB Control No. 2900-0138” in any correspondence.

SUPPLEMENTARY INFORMATION: Authority: 44 U.S.C. 3501-21.

Title: Request for Details of Expenses, VA Form 21P-8049.

OMB Control Number: 2900-0138.

Type of Review: Extension of a currently approved collection.

Abstract: The Department of Veterans Affairs (VA), through its Veterans Benefits Administration (VBA), administers an integrated program of benefits and services established by law for veterans, service personnel, and their dependents and/or beneficiaries. 38 U.S.C. 1522 Net Worth Limitation provides that VBA will deny or discontinue payment of pension benefits if it is reasonable that some part of the corpus of the claimant's or beneficiary's estate be consumed for his or her maintenance. VA codified this requirement at 38 CFR 3.274.

VBA uses the information collected on this form as evidence of additional circumstances which may affect entitlement determinations pursuant to 38 U.S.C.1522. The information is used as a counterbalance to a claimant's substantial estate and/or annual income.

An agency may not conduct or sponsor, and a person is not required to respond to a collection of information unless it displays a currently valid OMB control number. The Federal Register Notice with a 60-day comment period soliciting comments on this collection of information was published at FR 84, No. 50, pages 9412 and 9413.

Affected Public: Individuals and households.

Estimated Annual Burden: 5,700.

Estimated Average Burden per Respondent: 15 minutes.

Frequency of Response: One time.

Estimated Number of Respondents: 22,800.

By direction of the Secretary.
Danny S. Green,
VA Interim Clearance Officer, Office of Quality, Performance and Risk Department of Veterans Affairs.

[FR Doc. 2019-11585 Filed 6-3-19; 8:45 am]

BILLING CODE 8320-01-P